OFFICE OF PERSONNEL MANAGEMENT

Privacy Act of 1974: New System of Records

AGENCY: U.S. Office of Personnel Management (OPM).

ACTION: Notice of a new system of records.

SUMMARY: OPM proposes to add a new system of records to its inventory of records systems subject to the Privacy Act of 1974 (5 U.S.C. 552a), as amended. This action is necessary to meet the requirements of the Privacy Act to publish in the Federal Register notice of the existence and character of records maintained by the agency (5 U.S.C. 552a(e)(4)).

DATES: The new system will be effective without further notice on December 3, 2007, unless we receive comments that result in a contrary determination.

ADDRESSES: Send written comments to the Office of Personnel Management, ATTN: Sydney Smith-Heimbrock, Deputy Associate Director, Center for Human Capital Implementation and Assessment, Office of Personnel Management, 1900 E Streets, NW., Washington, DC 20415.

FOR FURTHER INFORMATION CONTACT: Angela Graham Humes, 202-606-2430.

SUPPLEMENTARY INFORMATION: The Federal Competency Assessment Tool is a web-based instrument for assessing current proficiency levels for mission critical occupations such as leadership and human resource management. It allows individuals to conduct a competency self assessment and supervisors to assess the competencies of their employees and of the position to determine competency strengths and areas for improvement.

The tool advances agencies' human capital management efforts in accordance with the Human Capital Assessment and Accountability Framework. The tool supports efforts in succession management, competency gap closure, competency development, and recruitment and retention. The tool contains competency models, a proficiency scale, a self and supervisor assessment, suggested proficiency levels for determining gaps, and agency-level access to reports and data.

The U.S. Office of Personnel Management (OPM) intends that the tool will have minimal effect on the privacy of individuals. Individual data from the tool is only available to agency designated points of contact for the tools. Additionally, oversight entities (e.g., Government Accountability Office) may request to review such data. The major reports of the tool provide aggregate data, not individual data. If requested, OPM may disclose aggregate level data from the tool via a governmentwide report. The tool was developed with minimizing the risk of unauthorized access to the system of records as an objective. To ensure the risk is minimized, the tool is hosted on a secure server and offers agency-designated access passwords.

U.S. Office of Personnel Management.
Linda M. Springer,
Director.

Office of Personnel Management (OPM)/CENTRAL-X

SYSTEM NAME:

Federal Competency Assessment Tool.

SYSTEM LOCATION:

Associate Director, Division for Human Capital Leadership and Merit System Accountability, U.S. Office of Personnel Management, 1900 E Street, NW., Washington, DC 20415-0001. Records pertaining to voluntary assessments of designated occupations such as leadership and human resources management are located on a contractor server. Records pertaining to pre-determined competencies (e.g., leadership, human resources management, or performance management) may be forwarded to designated agencies.

CATEGORIES OF INDIVIDUALS COVERED BY THE SYSTEM:

Current Federal employees who have voluntarily registered and completed the Federal Competency Assessment Tool.

CATEGORIES OF RECORDS IN THE SYSTEM:

This system comprises voluntary self-assessments of competencies against a proficiency scale. The assessments are tied to user accounts, that contain (a) registration information that includes demographic data to help determine participation; (b) self assessment information; and (c) an assessment by the supervisor.

The registration information includes the following mandatory information:

a. Registered users' e-mail address

b. User determined password

c. First name

d. Last name

e. Department/Agency to which the participant belongs

f. Pay plan

g. Grade

h. Occupational group/family

i. Occupational Specialty, if applicable

j. Work role, if applicable (e.g., executive, manager, supervisor, team lead)

The registration information also includes the following optional information:

(1) Work address

(2) City

(3) State

(4) Zip code

(5) Country

(6) Work telephone

(7) Education level

(8) Estimated years until retirement

(9) Time in occupation

Self assessment information includes the employee's determination of his/her proficiency level against a set of competencies using a proficiency scale. The assessment by the supervisor includes the supervisor's determination of a requesting employee's proficiency level and the desired proficiency level of the position using the same set of competencies and proficiency scale.

AUTHORITY FOR MAINTENANCE OF THE SYSTEM INCLUDES THE FOLLOWING WITH ANY REVISIONS OR AMENDMENTS:

5 U.S.C. 1103, 1402, and 4117.

Executive Orders 9830 and 13197.

PURPOSE:

The Federal Competency Assessment Tool is a web-based instrument for assessing the proficiency levels of Federal employees in key competencies. The tools allow an individual to conduct a competency self assessment and supervisors to assess the competencies of their employees to determine competency strengths and areas for improvement. Agencies can use the results of the assessments to support their competency gap analyses, succession management, and development efforts.

ROUTINE USES OF RECORDS MAINTAINED IN THE SYSTEM, INCLUDING CATEGORIES OF USERS AND THE PURPOSES OF SUCH USES:

These records and information in these records may be used:

1. To disclose pertinent information to the appropriate Federal, State, or local agency responsible for investigating, prosecuting, enforcing, or implementing a statute, rule, regulation, or order when OPM becomes aware of an indication of a violation or potential violation of a civil or criminal law or regulation.

2. To disclose information to a congressional office from the record of an individual in response to an inquiry from the congressional office made at the request of that individual.

3. To disclose information to another Federal agency or a party in litigation before a court or in an administrative proceeding being conducted by a Federal agency, when the Government is a party to the judicial or administrative proceeding, and such information is deemed by OPM to be arguable, relevant and necessary to the litigation.

4. By the National Archives and Records Administration in records management and inspections.

5. To provide an official of another Federal agency information needed in the performance of official duties related to reconciling or reconstructing data files, compiling description statistics, and making analytical studies to support the function for which the records were collected and maintained.

6. By OPM, in the production of summary descriptive statistics and analytical studies in support of the function for which the records are collected and maintained, or for related work force studies. While published statistics and studies do not contain individual identifiers, in some instances, the selection of elements of data included in the study may be structured in such a way as to make the data individually identifiable by inference.

7. To disclose information to the Department of Justice or in a proceeding before a court, adjudicative body, or other administrative body before which OPM is authorized to appear, when:

a. OPM, or any component thereof; or

b. Any employee of OPM in his or her official capacity; or

c. Any employee of OPM in his or her individual capacity where the Department of Justice or OPM has agreed to represent the employee; or

d. The United States, when OPM determines that litigation is likely to affect OPM or any of its components, is a party to litigation or has an interest in such litigation, and the use of such records by the Department of Justice or OPM is deemed by OPM to be arguable relevant and necessary to the litigation.

8. To disclose information to officials of the Merit Systems Protection Board or the Office of the Special Counsel, when requested in connection with appeals, special studies of the civil service and other merit systems, review of OPM rules and regulations, investigations of alleged or possible prohibited personnel practices, and such other functions as promulgated in 5 U.S.C. 1205 and 1206, or as may be authorized by law.

9. To disclose information to the Equal Employment Opportunity Commission when requested in connection with investigations into alleged or possible discrimination practices in the Federal sector, examination of Federal affirmative employment programs, compliance by Federal agencies with the Uniform Guidelines of Employee Selection Procedures, or other functions vested in the Commission.

10. To disclose information to the Federal Labor Relations Authority or its General Counsel when requested in connection with investigations of allegations of unfair labor practices of matters before the Federal Service Impasses Panel.

11. To disclose information to the Office of Management and Budget at any stage of the legislative coordination and clearance process in connection with private relief legislation as set forth in OMB circular No. A-19.

12. To provide an official of another Federal agency information needed in the performance of official duties related to succession planning, workforce analysis, gap closure, competency development, recruitment and retention.

13. To disclose to a requesting Federal agency, information in connection with the hiring, retention, separation, or retirement of an employee; the issuance of a security clearance; the reporting of an investigation of an employee; the letting of a contract; the classification of a job; or the issuance of a license, grant, or other benefit by the requesting agency, to the extent that OPM determines that the information is relevant and necessary to the requesting party's decision on the matter.

14. To provide individual users the ability to view self entered data on individual competency proficiency levels.

15. To provide reports to agencies on aggregate level data of proficiency levels in identified competencies across the Government.

16. To provide agency specific raw data reports to agencies on individual level data related to proficiency levels in identified competencies.

17. To disclose aggregate level data from the Federal Competency Assessment Tools via a governmentwide report.

18. To disclose information to contractors, grantees, or volunteers performing or working on a contract, service, grant, cooperative agreement, or job for the Federal government.

POLICIES AND PRACTICES OF STORING, RETRIEVING, SAFEGUARDING, RETAINING AND DISPOSING OF RECORDS IN THE SYSTEM:

STORAGE:

These records are maintained in a relational database management system hosted on a contractor's Internet server, accessed via a password-restricted system. Duplicate records also exist on magnetic tape back ups.

RETRIEVABILITY:

Designated points of contact from the U.S. Office of Personnel Management and participating agencies can retrieve reports that aggregate the results of individual and supervisor assessments, without specifically identifying individuals. Agencies can request raw data reports that will contain the identity of individuals. An employee can retrieve individual reports (which contain a record of how the individuals assessed themselves, along with how the supervisor assessed the position). All reports are accessed via the Internet through a password-restricted system.

SAFEGUARDS:

These electronic records are maintained in controlled access areas. Identification cards are verified to ensure that only authorized personnel are present. Electronic records are protected by restricted access procedures, including the use of passwords and sign-on protocols which are periodically changed. Only employees whose official duties require access are allowed to view, administer, and control these records.

RETENTION AND DISPOSAL:

Completed verifications are archived to a storage disk nightly and retained on a server for five years. When records are purged from the server, the records are transferred to a CD or other electronic media. Records in electronic media are electronically erased. CD or other electronic media are maintained for five years.

SYSTEM MANAGER AND ADDRESS:

Deputy Associate Director, Center for Human Capital Implementation and Assessment, Office of Personnel Management, 1900 E Street, NW., Washington, DC 20415-0001.

NOTIFICATION PROCEDURE:

Individuals wishing to inquire if this system contains information about them should contact the system manager or designee. Individuals must furnish the following information for their records to be located and identified:

a. Name

b. Name and address of office in which currently and/or formerly employed in the Federal service.

RECORD ACCESS PROCEDURE:

Individuals wishing to request access to their records in this system should contact their agency point of contact or the system manager. Individuals must furnish the following information for their records to be located and identified:

a. Name

b. Name and address of office in which currently and/or formerly employed in the Federal service.

Individuals requesting access must also follow OPM's Privacy Act regulations on verification of identity and access to records (5 CFR part 297).

CONTESTING RECORD PROCEDURE:

Individuals wishing to request amendment of their records in this system should contact the agency point of contact or system manager. Individuals must furnish the following information for their records to be located and identified:

a. Name

b. Name and address of office in which currently and/or formerly employed in the Federal service.

Individuals requesting amendment of their records must also follow OPM's Privacy Act regulations regarding verification of identity and amendment of records (5 CFR part 297).

RECORD SOURCE CATEGORIES:

The information in this system is obtained from:

a. The individual to whom the information pertains.

b. The supervisor of the individual to whom the information pertains, upon that individual's request.

[FR Doc. E7-20848 Filed 10-23-07; 8:45 am]

BILLING CODE 6325-43-P